DEPARTMENT OF HEALTH AND HUMAN SERVICES

Office of the Secretary

Hypertension Summit

AGENCY: Office on Women's Health (OWH), Office of the Assistant Secretary for Health (OASH), Department of Health and Human Services (HHS).

ACTION: Notice of event.

SUMMARY: The U.S. Department of Health and Human Services' Office on Women's Health (OWH) is providing notice of a virtual Hypertension Summit focused on innovations and evidence to bridge practice gaps in the field of hypertension treatment and prevention. The purpose of the Hypertension Summit is to exchange information about this topic and seek input on an individual basis from: patients who have benefited from innovative approaches to treating hypertension; subject matter experts; Phase 1 awardees of the HHS Hypertension Innovator Award Competition; and members of OWH's Self-Measured Blood Pressure Program (SMBP). This Hypertension Summit will highlight research from the Women's Health Initiative that impacts heart health and women's health. This Hypertension Summit is open to the public. Individuals interested in attending this Hypertension Summit must register to attend as instructed below.

DATES: OWH will host the Hypertension Summit on October 19, 2022, during the 3rd annual observance of National Women's Blood Pressure Awareness Week (NWBPAW), October 16-22, 2022.

ADDRESSES: The Hypertension Summit will be held virtually.

FOR FURTHER INFORMATION CONTACT: Contact Jeff Ventura at Womenshealth@hhs.gov or 202-690-7650 or go to https://www.womenshealth.gov/hypertensionsummit for more information.

SUPPLEMENTARY INFORMATION:

Meeting Accessibility: The Hypertension Summit will be held virtually.

All attendees must register to receive the virtual conference information for the Hypertension Summit.

For more information on how to register to attend, please visit https://www.zoomgov.com/webinar/register/WN_Z33WazyITyaeP29xVmyIKw.

Background: The HHS Office on Women's Health (OWH) is charged with providing expert advice and consultation to the Secretary concerning scientific, legal, ethical, and policy issues related to women's health. OWH establishes short-range and long-range goals within the Department and coordinates on activities within the Department that relate to disease prevention, health promotion, service delivery, research, and public and health care professional education, for issues of particular concern to women throughout their lifespan. OWH monitors the Department's activities regarding women's health and identifies needs regarding the coordination of activities. OWH is also responsible for facilitating the exchange of information through the National Women's Health Information Center. Additionally, OWH coordinates efforts to promote women's health programs and policies with the private sector. National Women's Blood Pressure Awareness Week (NWBPAW) is an observance that focuses on evidence to address practice gaps and to improve women's health outcomes related to hypertension.

The Hypertension Summit will occur during NWBPAW and will emphasize the importance of blood pressure control. The Hypertension Summit will facilitate the exchange information and seek input on an individual basis from: patients, who have benefited from innovative approaches to treating hypertension; subject matter experts; Phase 1 awardees of the HHS Hypertension Innovator Award Competition; and members of OWH's Self-Measured Blood Pressure Program (SMBP).

Topics covered during the Hypertension Summit: The agenda will be made up of several panels and presentations focusing on the innovations and evidence to bridge practice gaps in the field of hypertension treatment and prevention. Topics may include, but are not limited to, innovations and evidence to bridge practice gaps in the field of hypertension, self-measured blood pressure, telehealth, technology, health equity, hypertension in pregnancy and/or postpartum, home-based care, and health team integration.

The Hypertension Summit is open to the public. Information regarding the start and end times and any updates to agenda topics will be available at https://www.womenshealth.gov/hypertensionsummit closer to the date of the Hypertension Summit.

Procedures for Attendance: https://www.zoomgov.com/webinar/register/WN_Z33WazyITyaeP29xVmyIKw.

Dated: September 12, 2022.
Dorothy Fink,
Deputy Assistant Secretary for Women's Health, Office of the Assistant Secretary for Health.

[FR Doc. 2022-20214 Filed 9-16-22; 8:45 am]

BILLING CODE 4150-33-P